DEPARTMENT OF THE INTERIOR

Bureau of Land Management

[LLUT9223-13-L13200000-EL0000, UTU-89454]

Notice of Invitation to Participate; Coal Exploration License Application UTU-89454, UT

AGENCY: Bureau of Land Management, Interior.

ACTION: Notice.

SUMMARY: Pursuant to the Mineral Leasing Act of 1920, as amended by the Federal Coal Leasing Amendments Act of 1976, and to Bureau of Land Management (BLM) regulations, all interested qualified parties are hereby invited to participate with Ark Land Company on a pro rata cost sharing basis in its program for the exploration of coal deposits owned by the United States of America in Sevier County, Utah.

DATES: The notice of invitation to participate in this coal exploration license was published, once each week for 2 consecutive weeks in the Richfield Reaper (beginning the last week of December 2012), and by virtue of this announcement in the Federal Register. Any person seeking to participate in this exploration program must send written notice to the BLM and Ark Land Company, as provided in the ADDRESSES section below, no later than May 1, 2013.

ADDRESSES: Copies of the exploration plan are available for review from 7:45 a.m. to 4:30 p.m. Monday through Friday, excluding Federal holidays, (serialized under the number of UTU-89454) in the public room of the BLM Utah State Office, 440 West 200 South, Suite 500, Salt Lake City, UT 84101.

The written notice to participate in the exploration program should be sent to the following addresses: Bureau of Land Management, Utah State Office, Division of Lands and Minerals, Attn: Stan Perkes, 440 West 200 South, Suite 500, Salt Lake City, UT 84101 and Ark Land Company, c/o Sufco Mine, Attn: Mark Bunnell, 597 South SR 24, Salina, UT 84654.

FOR FURTHER INFORMATION CONTACT: Stan Perkes, Mining Engineer, at 801-539-4036 or by email: sperkes@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The purpose of the exploration program is to gain additional geologic knowledge of the coal underlying the exploration area for the purpose of assessing the coal resources. The exploration program is fully described and is being conducted pursuant to an exploration license and plan approved by the BLM. The exploration plan may be modified to accommodate the legitimate exploration needs of persons seeking to participate. The area to be explored includes the following-described lands in Sevier County, Utah:

Salt Lake Meridian, Utah

T. 21 S., R. 4 E., SLM, Utah

Sec. 14, W½NE¼, E½NW¼, SW¼NW¼, W½SW¼;

Sec. 15, S½NE¼, SE¼.

Containing 520.00 acres.

The Federal coal within the above-described lands is currently not leased for development of Federal coal resources.

Authority: 43 CFR 3410.2-1(c)(1).

Jenna Whitlock,
Associate State Director.

[FR Doc. 2013-07457 Filed 3-29-13; 8:45 am]

BILLING CODE 4310-DQ-P